ENVIRONMENTAL PROTECTION AGENCY

[EPA-HQ-ORD-2022-0831; FRL-12235-01-ORD]

2024 Workshops To Obtain Input on Initial Draft Materials for the Integrated Science Assessment (ISA) for Oxides of Nitrogen—Health Criteria

AGENCY: Environmental Protection Agency (EPA).

ACTION: Notice of workshop.

SUMMARY: The Environmental Protection Agency (EPA) is preparing an Integrated Science Assessment (ISA) as part of the review of the primary (health-based) National Ambient Air Quality Standards (NAAQS) for oxides of nitrogen. As part of this review, EPA is announcing a series of public workshops to evaluate preliminary draft materials that will inform the development of the ISA for oxides of nitrogen. Preliminary materials are not being released externally but will be provided to the panelists to guide discussions that will inform the development of the draft ISA for oxides of nitrogen. The workshops are being organized by EPA's Center for Public Health and Environmental Assessment (CPHEA) within the Office of Research and Development and will be held by webinar and teleconference on October 8, October 30, and October 31. Members of the public may attend the webinars as observers. Space in the teleconferences may be limited, and reservations will be accepted on a first-come, first-served basis.

DATES: The workshops will be held on October 8, October 30, and October 31.

ADDRESSES: The workshops will be held by webinar and teleconference. The website information and call-in number for the webinars are available to registered participants. Please register by going to https://www.eventbrite.com/o/us-epa-81991238023.

FOR FURTHER INFORMATION CONTACT: Please direct questions regarding workshops registration or logistics to Lindsey Green; telephone: 571-459-4084; or email: EPA-Workshops@icf.com. For technical information, prior to the workshops, contact David Lehmann; telephone: 919-541-0234; or email: Lehmann.David@epa.gov and Alison Krajewski; telephone: 919-541-7688; or email: Krajewski.Alison@epa.gov.

SUPPLEMENTARY INFORMATION:

I. Information About the Workshop

Section 108(a) of the Clean Air Act directs the Administrator to identify certain air pollutants which, among other things, “cause or contribute to air pollution which may reasonably be anticipated to endanger public health or welfare”; ¹ and to issue air quality criteria for them. These air quality criteria are to “accurately reflect the latest scientific knowledge useful in indicating the kind and extent of all identifiable effects on public health or welfare which may be expected from the presence of [a] pollutant in the ambient air. . . .”. Under section 109 of the Act, EPA is then to establish NAAQS for each pollutant for which EPA has issued criteria. Section 109(d)(1) of the Act subsequently requires periodic review and, if appropriate, revision of existing air quality criteria to reflect advances in scientific knowledge on the effects of the pollutant on public health or welfare. EPA is also required to review and, if appropriate, revise the NAAQS, based on the revised air quality criteria (for more information on the NAAQS review process, see https://www.epa.gov/naaqs).

¹ Under Clean Air Act section 302(h), welfare effects include, but are not limited to, “effects on soils, water, crops, vegetation, manmade materials, animals, wildlife, weather, visibility, and climate, damage to and deterioration of property, and hazards to transportation, as well as effects on economic values and on personal comfort and well-being.”

EPA has established NAAQS for six criteria pollutants including oxides of nitrogen. Periodically, EPA reviews the scientific basis for these standards by preparing an ISA. In conjunction with additional technical and policy assessments conducted by EPA's Office of Air Quality Planning and Standards (OAQPS), the ISA provides the scientific and technical basis for EPA decisions on the adequacy of the current NAAQS and the appropriateness of possible alternative standards.

CPHEA is holding a series of workshops to inform the Agency's evaluation of the scientific evidence for the oxides of nitrogen. The purpose of these workshops is to obtain input on the scientific content of preliminary draft materials that will inform the development of the draft ISA. Workshop sessions will include discussion of preliminary draft materials from subject areas which may include exposure assessment, toxicology, epidemiology, air quality/exposure, and fate and transport. These preliminary materials are not being released as an external draft but will be provided to the panelists to guide discussions and inform the development of the draft ISA for Oxides of Nitrogen—Health Criteria. These workshops are planned to help ensure that the ISA, once developed, is up-to-date and focuses on the key evidence necessary to inform the underlying scientific basis for the review of the primary NAAQS for oxides of nitrogen. EPA is planning to release the external review draft of the ISA for Oxides of Nitrogen—Health Criteria for review by the Clean Air Scientific Advisory Committee (CASAC) and the public in late 2025.

II. Workshop Information

Members of the public may attend the webinars as observers. Space in the teleconferences may be limited, and reservations will be accepted on a first-come, first-served basis. Registration for the workshop is available online at https://www.eventbrite.com/o/us-epa-81991238023.

Wayne Cascio,
Director, Center for Public Health and Environmental Assessment.

[FR Doc. 2024-20350 Filed 9-9-24; 8:45 am]

BILLING CODE 6560-50-P